DEPARTMENT OF HOMELAND SECURITY

U.S. Customs and Border Protection

19 CFR Part 12

Special Classes of Merchandise

CFR Correction

In Title 19 of the Code of Federal Regulations, Parts 0 to 140, revised as of April 1, 2012, on page 441, in § 12.112 (a), the words “(Index of Pesticide Products located in the Environmental Protection Agency's handbook entitled Recognition and Management of Pesticide Poisonings, found at http://www.epa.gov)” are corrected to read “(Environmental Protection Agency Form 3540-1)”.

[FR Doc. 2012-25792 Filed 10-17-12; 8:45 am]

BILLING CODE 1505-01-D